DEPARTMENT OF HEALTH AND HUMAN SERVICES

Centers for Disease Control and Prevention

[Docket Number NIOSH-057]

Request for Information on 1-Bromopropane

AGENCY: National Institute for Occupational Safety and Health (NIOSH) of the Centers for Disease Control and Prevention (CDC), Department of Health and Human Services (HHS).

ACTION: Notice of public comment period.

SUMMARY: The National Institute for Occupational Safety and Health (NIOSH) of the Centers for Disease Control and Prevention (CDC) intends to evaluate the scientific data on the brominated organic solvent, 1-Bromopropane (1-BP, CAS # 106-94-5, also known as n-propyl bromide), and develop appropriate communication documents, such as a Current Intelligence Bulletin, Criteria Document and/or other informational products, and establish a Recommended Exposure Limit (REL) for 1-BP. NIOSH is requesting information on the following: (1) published and unpublished reports and findings from in vitro and in vivo toxicity studies with 1-BP, (2) information on possible health effects observed in workers exposed to 1-BP, (3) information on workplaces and products in which 1-BP can be found, (4) description of work tasks and scenarios with a potential for exposure to 1-BP, (5) workplace exposure data, and (6) information on control measures (e.g., engineering controls, work practices, personal protective equipment) that are being used in workplaces where potential exposures to 1-BP occur.

Public Comment Period: Comments must be received by December 14, 2009.

ADDRESSES: You may submit comments, identified by docket number NIOSH-057, by any of the following methods:

• Mail: NIOSH Docket Office, Robert A. Taft Laboratories, MS-C34, 4676 Columbia Parkway, Cincinnati, OH 45226.

• Facsimile: (513) 533-8285.

• E-mail: nioshdocket@cdc.gov.

All information received in response to this notice will be available for public examination and copying at the NIOSH Docket Office, 4676 Columbia Parkway, Cincinnati, Ohio 45226. A complete electronic docket containing all comments submitted will be available on the NIOSH Web page at http://www.cdc.gov/niosh/docket, and comments will be available in writing by request. NIOSH includes all comments received without change in the docket, including any personal information provided.

FOR FURTHER INFORMATION CONTACT: G. Scott Dotson, PhD, NIOSH, Robert A Taft Laboratories, MS-C32, 4676 Columbia Parkway, Cincinnati, OH 45226, telephone (513) 533-8540.

SUPPLEMENTARY INFORMATION: 1-BP is a brominated organic solvent that has received increased global attention in recent years as a potential alternative for ozone depleting substances and other compounds with known adverse health effects, such as chlorofluorocarbons (CFC), hydrochlorofluorocarbons (HCFC), and methylene chloroform. 1-BP is used in multiple industrial processes including vapor and immersion degreasing operations, and as a solvent in industries using aerosol-applied adhesives; 1-BP is also proposed as a replacement solvent for perchloroethylene in the dry-cleaning sector. The National Toxicology Program (NTP) estimated that approximately 8.2 million pounds (lbs) of 1-BP were used in the United States (U.S.) in 2002. Estimates of the number of workers exposed to 1-BP are unavailable due to limited exposure data and its relatively recent introduction into domestic commerce.

The toxic nature of 1-BP is not fully understood. Recently published case reports describe possible adverse health effects, including neurotoxicity, following occupational exposures to 1-BP. The findings of animal toxicity studies in rats and mice indicate that 1-BP may be a reproductive and developmental toxicant, in addition a neurotoxicant. No occupational exposure limits for 1-BP have been established by NIOSH or the Occupational Safety and Health Administration (OSHA).

NIOSH seeks to obtain materials, including published and unpublished reports and research findings, to evaluate the possible health risks of occupational exposure to 1-BP. Examples of requested information include, but are not limited to, the following:

(1) Identification of industries or occupations in which exposures to 1-BP may occur.

(2) Trends in the production and use of 1-BP and 1-BP containing compounds.

(3) Description of work tasks and scenarios with a potential for exposure to 1-BP.

(4) Workplace exposure measurement data in various types of industries and jobs.

(5) Case reports or other health information demonstrating potential health effects in workers exposed to 1-BP.

(6) Research findings from in vitro and in vivo toxicity studies.

(7) Information on controls (e.g., engineering controls, work practices, PPE) including costs and effectiveness of control measures being taken to minimize worker exposure to 1-BP.

(8) Educational materials for worker safety and training on the safe handling of 1-BP.

(9) Data pertaining to the feasibility of establishing a more protective REL for 1-BP including projected costs of control strategies considered.

(10) Names of substitute chemicals or processes being used in place of 1-BP and type of work tasks.

Dated: September 9, 2009.
John Howard,
Director, National Institute for Occupational Safety and Health, Centers for Disease Control and Prevention.

[FR Doc. E9-22297 Filed 9-15-09; 8:45 am]

BILLING CODE 4163-19-P